DEPARTMENT OF ENERGY

Federal Energy Regulatory Commission

[Project No. 2738-054]

New York State Electric & Gas Corporation (NYSEG); Notice of Settlement Agreement and Soliciting Comments

January 5, 2005.

Take notice that the following settlement agreement has been filed with the Commission and is available for public inspection.

a. Type of Application: Settlement agreement.

b. Project No.: 2738-054.

c. Date Filed: January 3, 2003.

d. Applicant: New York State Electric & Gas Corporation (NYSEG).

e. Name of Project: Saranac River Hydroelectric Project.

f. Location: Located on the Saranac River, in Clinton County, New York. The project does not occupy Federal lands.

g. Filed Pursuant to: Rule 602 of the Commission's Rules of Practice and Procedure, 18 CFR 385.602.

h. Applicant Contact: Carol Howland, New York State Electric & Gas Corporation, James A. Carrigg Center, 18 Link Drive, PO Box 5224, Binghamton, NY 13902 (607) 762-8881.

i. FERC Contact: Tom Dean at (202) 502-6041.

j. Deadline for Filing Comments: 20 days from the issuance date of this notice; reply comments are due 30 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions of the Commission's Web site (http://www.ferc.gov) under the “e-filing” link.

k. NYSEG filed a settlement agreement on the resolution of issues related to the relicensing proceeding for the Saranac River Project. NYSEG filed this settlement agreement on behalf of itself and 6 other stakeholders. The settlement agreement includes provisions for run-of-river operation, bypass flows, fish protection measures, fish habitat and stocking fund, flow and water level monitoring, and recreation enhancements.

l. A copy of the settlement agreement is available for review at the Commission in the Public Reference Room or may be viewed on the Commission's Web site at http://www. ferc.gov, using the “eLibrary” link. Enter the docket number, excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E5-551 Filed 2-9-05; 8:45 am]

BILLING CODE 6717-01-P